DEPARTMENT OF AGRICULTURE

U.S. Codex Office

[Docket No. USDA-2023-0011]

International Standard-Setting Activities

AGENCY: Trade and Foreign Agricultural Affairs (TFAA), USDA.

ACTION: Notice.

SUMMARY: This notice informs the public of the sanitary and phytosanitary (SPS) standard-setting activities of the Codex Alimentarius (Codex), in accordance with section 491 of the Trade Agreements Act of 1979, as amended, and the Uruguay Round Agreements Act. This notice also provides a list of other standard-setting activities of Codex, including commodity standards, guidelines, codes of practice, and revised texts. This notice, which covers Codex activities during the time periods of June 1, 2022 to May 31, 2023 and June 1, 2023 to May 31, 2024, seeks comments on standards under consideration and recommendations for new standards.

DATES: Comments must be received on or before October 13, 2023.

ADDRESSES: The U.S. Codex Office (USCO) invites interested persons to submit their comments on this notice. Comments may be submitted by one of the following methods:

• Federal e-Rulemaking Portal: This website provides the ability to type short comments directly into the comment field on this web page or attach a file for lengthier comments. Go to http://www.regulations.gov. Follow the on-line instructions at the website for submitting comments.

• Mail: Send to Docket Clerk, U.S. Department of Agriculture, Trade and Foreign Agricultural Affairs, U.S. Codex Office, 1400 Independence Avenue SW, Mailstop S4861, Washington, DC 20250-3700.

• Hand- or courier-delivered submittals: Deliver to 1400 Independence Avenue SW, Room 4861, Washington, DC 20250-3700.

Instructions: All items submitted by mail or email are to include the Agency name (i.e., USCO) and docket number USDA-2023-0011. Comments received in response to this docket will be made available for public inspection and posted without change, including any personal information to http://www.regulations.gov.

Please state that your comments refer to Codex. If your comments relate to specific Codex committees, please identify the committee(s) in your comments and submit a copy of your comments to the U.S. delegate to the committee.

Docket: For access to background documents or comments received, email uscodex@usda.gov to schedule an appointment.

FOR FURTHER INFORMATION CONTACT: Ms. Mary Frances Lowe, United States Manager for Codex Alimentarius, U.S. Department of Agriculture, Office of the Under Secretary for Trade and Foreign Agricultural Affairs, U.S. Codex Office, 1400 Independence Avenue SW, Room 4861, Washington, DC 20250-3700, Email: uscodex@usda.gov, Telephone: 202-205-7760.

For information pertaining to committees, contact the U.S. delegate for that committee. A complete list of delegates and alternate delegates is accessible via the internet at: https://www.usda.gov/sites/default/files/documents/us-codex-program-officials.pdf. Documents pertaining to Codex and specific committee agendas are accessible via the internet at http://www.fao.org/fao-who-codexalimentarius/meetings/en/. The U.S. Codex Office also maintains a website at http://www.usda.gov/codex, a link that offers an email subscription service providing access to information related to Codex. Customers can add or delete their subscription themselves and have the option to password protect their accounts.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective with respect to the United States on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are the Codex Alimentarius (Codex), the World Organisation for Animal Health (WOAH, founded as OIE), and the International Plant Protection Convention (IPPC). The President, pursuant to Proclamation No. 6780 of March 23, 1995, (60 FR 15845), designated the U.S. Department of Agriculture as the agency responsible for informing the public of the SPS standard-setting activities of each international standard-setting organization. The Secretary of Agriculture has delegated to the Trade and Foreign Agricultural Affairs Mission Area the responsibility to inform the public of the SPS standard-setting activities of Codex. The Trade and Foreign Agricultural Affairs Mission Area has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees, and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the USCO publishes this notice in the Federal Register annually. Attachment 1: Sanitary and Phytosanitary Activities of Codex sets forth the following information:

1. The SPS standards under consideration or planned for consideration; and

2. For each SPS standard specified:

a. A description of the consideration or planned consideration of the standard

b. Whether the United States is participating or plans to participate in the consideration of the standard

c. The agenda for United States participation, if any; and

d. The agency responsible for representing the United States with respect to the standard.

To obtain copies of the standards listed in Attachment 1: Sanitary and Phytosanitary Activities of Codex, please contact the U.S. delegate or the U.S. Codex Office.

This notice also solicits public comment on standards that are currently under consideration or planned for consideration and recommendations for new standards. The U.S. delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex committees and will disseminate information regarding U.S. delegation activities to interested parties. This information will include the status of each agenda item; the U.S. Government's position or preliminary position on each agenda item; and the time and place of planning meetings and debriefing meetings following the Codex committee sessions. In addition, the USCO makes much of the same information available through its web page at http://www.usda.gov/codex. If you would like to access or receive information about specific committees, please visit the web page or notify the appropriate U.S. delegate or the U.S. Codex Office, Room 4861, 1400 Independence Avenue SW, Washington, DC 20250-3700, Email: uscodex@usda.gov.

The information provided in Attachment 1: Sanitary and Phytosanitary Activities of Codex describes the status of Codex standard-setting activities by the Codex committees for the time periods from June 1, 2022 to May 31, 2023 and June 1, 2023 to May 31, 2024. A list of forthcoming Codex sessions may be found at: https://www.fao.org/fao-who-codexalimentarius/meetings/en/.

Additional Public Notification

Public awareness of all segments of rulemaking and policy development is important. Consequently, the USCO will announce this Federal Register publication on-line through the U.S. Codex web page located at: https://www.federalregister.gov/agencies/us-codex-office.

Done at Washington, DC.
Mary Frances Lowe,
U.S. Manager for Codex Alimentarius.

Attachment 1: Sanitary and Phytosanitary Activities of Codex

Codex Alimentarius Commission and Executive Committee

The Codex Alimentarius Commission (Commission or CAC) convened its 45th Session (CAC45) from November 21-25, 2022, in Rome, Italy, with report adoption taking place virtually on December 12-13, 2022 and continued by written procedure. The relevant document is REP22/CAC. The actions taken by the Commission at CAC45 (e.g., adoption and revocation of standards, approval of new work, discontinuation of work, amendments, etc.) are described below under the respective Codex committees.

The Commission is scheduled to convene its 46th Session (CAC46) from November 27 to December 2, 2023. At its 46th Session, the Commission will consider adopting standards recommended by committees at Step 8 or 5/8 (final adoption) and advance the work of committees by adopting draft standards at Step 5 (interim adoption, for further comment and consideration by the relevant committee). The Commission will also consider revocation of Codex texts; proposals for new work; discontinuation of work; amendments to Codex standards and related texts; and matters arising from the Reports of the Commission, the Executive Committee, and subsidiary bodies. Although the agenda for the 46th Session is not yet available, it is expected that the Commission will also consider Codex budgetary and financial matters; FAO/WHO scientific support to Codex (activities, budgetary and financial matters); matters arising from FAO/WHO; reports of side events; election of the chairperson and vice-chairpersons and members of the Executive Committee elected on a geographical basis; designation of countries responsible for appointing the chairpersons of Codex subsidiary bodies; any other business; and adoption of the report.

The Executive Committee (CCEXEC) is composed of the Commission chairperson; vice-chairpersons; seven members elected by the Commission from each of the following geographic regions: Africa, Asia, Europe, Latin America and the Caribbean, Near East, North America, and the South West Pacific; and regional coordinators from the six regional coordinating committees. The United States currently participates as an advisor to Canada, the member elected on a geographical basis from North America.

CCEXEC convened its 82nd Session (CCEXEC82) virtually June 20-24, 2022, with virtual report adoption on June 30, 2022. The relevant document is REP22/EXEC1. CCEXEC82 conducted Critical Review of the standards development work of the Codex Committees on Fats and Oils (CCFO), Nutrition and Foods for Special Dietary Uses (CCNFSDU), Food Hygiene (CCFH), and Residues of Veterinary Drugs in Foods (CCRVDF). CCEXEC82 also considered the progress of three Sub-Committees concerned with (1) the development of practical guidance on the application of the Statements of Principle concerning the Role of Science in the Codex decision-making process and the extent to which other factors are taken into account, (2) new food sources and production systems, and (3) a model for future Codex work; reviewed and made recommendations to the Directors General of FAO and WHO on applications from international non-governmental organizations for observer status in Codex; and discussed the status of work under the Codex Strategic Plan 2020-2025 and plans for commemorating the 60th Anniversary of the CAC in 2023. The report and recommendations of CCEXEC82 were considered by the Codex Alimentarius Commission at its 45th Session (CAC45, November 2022).

CCEXEC convened its 83rd Session (CCEXEC83) from November 14 to 18, 2022, in Rome, Italy. The relevant document is REP22/EXEC2. In addition to making recommendations to CAC45 on the work of Codex committees, CCEXEC83 discussed practical guidance on the application of the Statements of Principle concerning the Role of Science in the Codex decision-making process and the extent to which other factors are taken into account; new food sources and production systems; the Future of Codex; the Codex Strategic Plan 2020-2025; and the 60th anniversary of the Commission.

CCEXEC convened its 84th Session (CCEXEC84) from July 10-14, 2023, in Geneva, Switzerland. The relevant document is REP23/EXEC1. In addition to discussing recommendations to CAC46 on the work of Codex committees, CCEXEC84 discussed the Blueprint on the Future of Codex; recommendations on the Future of Codex in the context of 60th anniversary celebrations; monitoring the implementation of the Codex Strategic Plan 2020-2023; and plans for the development of the Codex Strategic Plan for 2026-2031. The Executive Committee also considered the following agenda items: applications from international non-governmental organizations for observer status in Codex; and regional standards. The Executive Committee agenda for the 85th Session (CCEXEC85, November 2023) is not yet available.

Responsible Agency: USDA/TFAA/USCO.

U.S. Participation: Yes, as advisor to Canada (current CCEXEC member elected on a geographical basis from North America).

Codex Committee on Contaminants in Foods

The Codex Committee on Contaminants in Foods (CCCF) establishes or endorses permitted maximum levels (MLs) and guideline levels (GLs) for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates standards or codes of practice for related subjects; and considers other matters assigned to it by the Commission in relation to contaminants and naturally occurring toxicants in food and feed.

The Committee had the following items which were considered and approved by the 45th Session of the Codex Alimentarius Commission (CAC45) in November 2022:

Final Adoption at Step 8 or Step 5/8

• Code of Practice for the Prevention and Reduction of Cadmium Contamination in Cocoa Beans (CXC 81-2022)

• ML for cadmium in cocoa powder (100% cocoa solids on a dry matter basis)

• MLs for lead in cereal-based foods for infants and young children, white and refined sugar, corn and maple syrups, honey and sugar-based candies

• MLs for methylmercury in orange roughy and pink cusk eel

• MLs for total aflatoxins (AFT) in maize grain, destined for further processing; flour meal, semolina and flakes derived from maize; husked rice; polished rice; sorghum grain, destined for further processing; cereal-based food for infants and young children (excluding foods for food aid programs); and cereal-based food for infants and young children for food aid programs

Interim Adoption at Step 5

• ML for lead in ready-to-eat meals for infants and young children

• Draft Code of Practice for Prevention and Reduction of Mycotoxin Contamination in Cassava and Cassava-Based Products

Discontinuation

• Work on MLs for lead in fresh eggs, dried garlic, and molasses

The CCCF convened its 16th Session (CCCF16) from April 17-21, 2023, in Utrecht, Netherlands, with report adoption taking place virtually on April 26, 2023. The relevant document is REP23/CF16. CCCF16 advanced the following items for consideration by the CAC46 in November 2023:

For final adoption at Step 8 and Step 5/8

• MLs for lead for soft brown, raw, and non-centrifugal sugars

• MLs for lead for ready-to-eat meals for infants and young children

• Code of Practice for Prevention and Reduction of Mycotoxin Contamination in Cassava and Cassava-Based Products

• Sampling plans for total aflatoxins in certain cereals and cereal-based products including foods for infants and young children

• MLs for Ochratoxin A (OTA) in chili pepper, paprika and nutmeg; and

• MLs for total aflatoxins (AFT) in chili pepper and nutmeg

For Approval as New Work

• Code of Practice/Guidelines for the Prevention or Reduction of Ciguatera Poisoning

For Discontinuation

• Work on AFT in ginger, paprika, black and white pepper, and turmeric.

The CCCF is scheduled to convene its 17th session (CCCF17) from April 15-19, 2024. The CCCF17 location and agenda are currently unavailable.

The Committee is expected to continue working on:

• ML for total aflatoxins in ready to-eat (RTE) peanuts and associated sampling plan (definition of RTE peanuts)

• Sampling plans for OTA and AFT (chili pepper, paprika, and nutmeg)

• New work on a Code of Practice/Guidelines for the prevention or reduction of ciguatera poisoning

• Discussion paper on pyrrolizidine alkaloids

• Discussion paper on new measures supporting the revision of the Code of Practice for the Prevention and Reduction of Aflatoxin Contamination in Peanuts (CXC 55-2004)

• Discussion paper on new measures supporting the revision of the Code of Practice for the Reduction of Aflatoxin B1 in Raw Materials and Supplemental Feeding Stuffs for Milk-Producing Animals (CXC 45-1997)

• Discussion paper on the need and feasibility of possible follow up actions on tropane alkaloids

• Discussion paper on possible risk management measure(s) for acrylamide in foods, taking into account the most recent JECFA evaluations

• Discussion paper on the development of a Code of Practice for the Prevention and Reduction of Cadmium Contamination in Foods

• General guidance on data analysis for development of maximum levels and improved data collection

• Review of Codex standards for contaminants

• Follow-up work to the outcomes of JECFA evaluations and FAO/WHO expert consultations

• Reconsider the opportunity to develop discussion papers on the need and feasibility of possible follow-up actions on ergot alkaloids and trichothecenes (T-2, HT-2 and DAS)

• Priority list of contaminants for evaluation by JECFA

Responsible Agencies: HHS/FDA; USDA/Food Safety and Inspection Service (FSIS).

U.S. Participation: Yes.

Codex Committee on Fats and Oils

The Codex Committee on Fats and Oils (CCFO) is responsible for elaborating worldwide standards for fats and oils of animal, vegetable, and marine origin, including margarine and olive oil.

The Committee had the following items which were considered and approved by CAC45 in November 2022:

Final Adoption at Step 8 and Step 5/8

• Revision to the Standard for Named Vegetable Oils (CXS 210-1999): Essential composition of sunflower seed oils

Interim Adoption at Step 5

• Draft revision to the Standard for Named Vegetable Oils (CXS 210-1999): Inclusion of avocado oil

Approved as New Work

• Amendment/revision to the Standard for Named Vegetable Oils (CXS 210-1999) to include camellia seed oil; sacha inchi oil; and high oleic acid soya bean oil

• Amendment/revision to the Standard for Fish Oils (CXS 329-2017) to include Calanus oil

The CCFO is scheduled to convene for its 23rd Session (CCFO23) from February 19-23, 2024, in Kuala Lumpur, Malaysia. The CCFO23 agenda is currently unavailable.

The Committee is expected to continue work on:

• Amendment/Revision of the Standard for Named Vegetable Oils (CXS 210-1999): inclusion of avocado oil

• Revision of the Standard for Olive Oils and Pomace Olive Oils (CXS 33-1981)

• Amendment/Revision of the Standard for Named Vegetable Oils (CXS 210-1999): inclusion of camellia seed oil

• Amendment/Revision of the Standard for Named Vegetable Oils (CXS 210-1999): inclusion of sacha inchi oil

• Amendment/Revision of the Standard for Named Vegetable Oils (CXS 210-1999): inclusion of high oleic acid soya bean oil

• Amendment/Revision of the Standard for Fish Oils (CXS 329-2017): inclusion of Calanus oil

• Consideration of proposals on new substances to be added to the List of Acceptable Previous Cargoes

Responsible Agencies: HHS/FDA/Center for Food Safety and Applied Nutrition (CFSAN); USDA/Agricultural Research Service (ARS).

U.S. Participation: Yes.

Codex Committee on Fish and Fishery Products

The Committee on Fish and Fishery Products (CCFFP) is responsible for elaborating standards for fresh, frozen, and otherwise processed fish, crustaceans, and mollusks. The CCFFP is working by correspondence and is expected to complete its pending work by October 1, 2023.

The Committee is working on:

• The Standard for Canned Sardines and Sardine-Type Products (CXS 94-1981), inclusion of the fish species S. lemuru (Bali Sardinella) in the list of Sardinella species under Section 2.1

Responsible Agencies: HHS/FDA; DOC/NOAA/National Marine Fisheries Service (NMFS).

U.S. Participation: Yes.

Codex Committee on Food Additives

The Codex Committee on Food Additives (CCFA) establishes or endorses acceptable MLs for individual food additives; prepares a priority list of food additives for risk assessment by the JECFA; assigns functional classes to individual food additives; recommends specifications of identity and purity for food additives for adoption by the Codex Alimentarius Commission; considers methods of analysis for the determination of additives in food; and considers and elaborates standards or codes of practice for related subjects such as the labeling of food additives when sold as such.

The CCFA convened its 53rd Session (CCFA53) from March 27-31, 2023, in Hong Kong, China. The relevant document is REP23/FA. CCFA53 advanced the following items for consideration by the CAC46 in November 2023:

For Final Adoption at Step 8 and Step 5/8

• Inclusion of the provision for trisodium citrate (INS 331(iii)) in FC 01.1.1 in the General Standard for Food Additives (GSFA) (CXS 192-1995)

• Inclusion of the provisions for food additives in FC 14.2.3 (CXS 192-1995)

• Inclusion of the provisions for riboflavin, synthetic (INS 101(i)), riboflavin 5′-phosphate sodium (INS 101(ii)), riboflavin from Bacillus subtilis (INS 101(iii)), riboflavin from Ashbya gossypii (INS 101(iv)) and spirulina extract (INS 134) in Table 3 (CXS 192-1995)

• Proposed draft revision of the Class Names and the International Numbering System for Food Additives (CXG 36-1989)

• Proposed draft Specifications for the Identity and Purity of Food Additives (CXA 6-2021)

The CCFA is scheduled to convene its 54th Session (CCFA54) from April 22-26, 2024. The CCFA54 agenda is currently unavailable.

The Committee is expected to continue work on:

• The alignment and the endorsement of food-additive provisions referred by commodity committees

• New or revised provisions of the GSFA

• Revision of the Class Names and the International Numbering System for Food Additives (CXG 36-1989)

• Proposal for additions and changes to the Priority List of Substances proposed for evaluation by JECFA

• Mapping food categories of the GFSA to the FoodEx2 Database

• Discussion paper on the development of a standard for yeast

• Discussion paper to identify the outstanding issues with respect to avoiding future divergence between the GSFA, commodity standards and other texts

Responsible Agency: HHS/FDA/CFSAN.

U.S. Participation: Yes.

Codex Committee on Food Hygiene

The Codex Committee on Food Hygiene (CCFH) is responsible for developing basic provisions on food hygiene applicable to all food; considering and amending or endorsing provisions on food hygiene contained in Codex commodity standards and Codex codes of practice developed by other committees; considering specific food hygiene problems assigned to it by the Commission; suggesting and prioritizing areas where there is a need for microbiological risk assessment at the international level and developing questions to be addressed by the risk assessors; and considering microbiological risk management matters in relation to food hygiene and in relation to the FAO/WHO risk assessments.

The Committee had the following items which were considered and approved by the CAC45 in November 2022:

Final Adoption at Step 8

• Guidelines on the Management of Biological Foodborne Outbreaks (CXG 96-2022)

• Proposed draft Decision Tree as an Annex to the General Principles of Food Hygiene (CXC 1-1969)

The CCFH convened its 53rd Session (CCFH53) from November 27-December 2, 2022, in San Diego, California, with report adoption taking place virtually on December 8, 2022. The relevant document is REP 23/FH. CCFH53 advanced the following items for consideration by the CAC46 in November 2023:

For Final Adoption at Step 5/8

• Draft Guidelines for the Control of Shiga Toxin-Producing Escherichia coli (STEC) in Raw Beef, Fresh Leafy Vegetables, Raw Milk and Raw Milk Cheeses, and Sprouts (General Section, Annex I on Raw Beef, and Annex III on Raw Milk and Raw Milk Cheeses)

• Draft Guidelines for the Safe Use and Reuse of Water in Food Production and Processing (General Section and Annex I on Fresh Produce)

For Approval as New Work

• Revision of the Guidelines on the Application of General Principles of Food Hygiene to the Control of Pathogenic Vibrio Species in Seafood (CXG-73-2010)

• Guidelines for Food Hygiene Control Measures in Traditional Markets for Food

The CCFH is scheduled to convene its 54th Session (CCFH54) from March 11-15, 2024, in Nairobi, Kenya. The CCFH54 agenda is currently unavailable.

The Committee is expected to continue work on:

• Proposed Draft Guidelines for the Control of Shiga Toxin-Producing Escherichia coli (STEC) in Raw Beef, Raw Milk and Raw Milk Cheeses, Fresh Leafy Vegetables, and Sprouts: (Annex II on Fresh Leafy Vegetables and Annex IV on Sprouts)

• Proposed Draft Guidelines for the Safe Use and Reuse of Water in Food Production: Annex II on Fisheries and Annex III on Dairy Products)

• Proposed Draft Guidelines for Food Hygiene Control Measures in Traditional Markets for Food

• Revision of the Guidelines on the Application of General Principles of Food Hygiene to the Control of Pathogenic Vibrio Species in Seafood (CXG 73-2010)

• Alignment of other CCFH documents with the revised General Principles of Food Hygiene (CXC 1-1969)

• Discussion paper on revision of the Guidelines on the Application of General Principles of Food Hygiene to the Control of Viruses in Food (CXG 79-2012)

• Discussion paper on revision of the Guidelines for the Control of Campylobacter and Salmonella in Chicken Meat (CXG 78-2011)

• Discussion paper on revision of the Guidelines on the Application of General Principles of Food Hygiene to the Control of Listeria monocytogenes in Foods (CXG 61-2007)

• New work proposals/forward workplan

Responsible Agencies: HHS/FDA/CFSAN; USDA/FSIS.

U.S. Participation: Yes.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The Committee had the following item which was considered and approved by the CAC45 in November 2022:

Approved as New Work

• Development of principles and guidelines on the use of remote audit and verification in regulatory frameworks

The CCFICS convened its 26th Session from May 1-5, 2023, in Hobart, Tasmania, Australia. The relevant document is REP 23/FICS. The Committee advanced the following items for consideration by the CAC46 in November 2023:

For Final Adoption at Step 8 and Step 5/8

• Proposed draft guidelines on recognition and maintenance of equivalence of national food control systems (NFCS)

• Proposed draft principles and guidelines on the use of remote audit and inspection in regulatory frameworks

For Approval as New Work

• Project document for the on review and update of the Principles for Traceability/Product Tracing as a Tool within a Food Inspection and Certification System (CXG 60-2006)

The CCFICS is scheduled to convene its 27th Session (CCFICS27) from September 16-20, 2024, in Australia. The CCFICS27 agenda is currently unavailable.

The Committee is expected to continue work on:

• Development of guidance on the prevention and control of food fraud

• Proposed draft consolidated Codex guidelines related to equivalence

• Reviewing and updating the list of emerging global issues

• Review and update of the Principles for Traceability/Product Tracing as a Tool Within a Food Inspection and Certification System (CXG 60-2006)

• Discussion paper and project document on guidance on appeals mechanisms in the context of rejection of imported food

• Discussion paper and project document on the standardization of sanitary requirements

Responsible Agencies: USDA/FSIS; HHS/FDA/CFSAN.

U.S. Participation: Yes.

Codex Committee on Food Labelling

The Codex Committee on Food Labelling (CCFL) drafts provisions on labeling applicable to all foods; considers, amends, and endorses draft specific provisions on labeling prepared by the Codex committees drafting standards, codes of practice, and guidelines; and studies specific labeling problems assigned to it by the Codex Alimentarius Commission. The Committee also studies problems associated with the advertisement of food with particular reference to claims and misleading descriptions.

The CCFL convened its 47th Session (CCFL47) from May 15-19, 2023, in Gatineau (Ottawa), Canada. The relevant document is REP23/FL. CCCFL47 advanced the following items for consideration by the CAC46 in November 2023:

For Interim Adoption at Step 5

• Proposed draft revision to the General Standard for the Labelling of Pre-packaged Foods (CXS 1-1985): provisions relevant to allergen labelling

• Proposed draft Guidelines on the Provision of Food Information for Pre-packaged Foods to be Offered Via E-Commerce

• Proposed draft Guidelines on the Use of Technology to Provide Food Information

For approval as new work:

• Amendments to the General Standard for the Labelling of Prepackaged Foods (CXS 1-1985): labelling of prepackaged foods in joint presentation and multipack formats

In addition, CCFL47 endorsed labeling provisions in standards developed by other Codex committees, including the Codex Committee on Fresh Fruits and Vegetables (CCFFV); the Codex Committee on Spices and Culinary Herbs (CCSCH); and the Codex Coordinating Committee for Asia (CCASIA). For the Standard for Dried Floral Parts—Saffron, CCFL47 agreed to endorse all labeling provisions except those on country of origin and country of harvest, referring these two provisions back to the CCSCH for reconsideration.

The CCFL is scheduled to convene its 48th session (CCFL48) from October 28 to November 1, 2024, in Ottawa, Canada. The CCFL48 agenda is currently unavailable.

The Committee is expected to continue work on:

• Proposed draft Guidelines on the Provision of Food Information for Pre-packaged Foods to be Offered via E-Commerce

• Proposed draft revision to the General Standard for the Labelling of Prepackaged Foods (CXS 1-1985): Provisions relevant to allergen labeling and guidelines on precautionary allergen labeling

• Proposed draft Guidelines on the Use of Technology to Provide Food Information

• Discussion Paper on the Labelling of alcoholic beverages

• Redrafting of the Discussion Paper on the Application of food labelling provisions in emergencies

• Discussion Paper on Trans Fatty Acids (TFA)

• Redrafted Discussion Paper on Sustainability Labelling Claims: Revision to the General Guidelines on Claims (CXG 1-1979)

• Discussion Paper on the Definition for Added Sugars

• Update to the Discussion Paper on Future work and Direction of CCFL and Criteria for the evaluation and prioritization of work of CCFL

Responsible Agencies: HHS/FDA/CFSAN; USDA/FSIS.

U.S. Participation: Yes.

Codex Committee on Fresh Fruits and Vegetables

The Codex Committee on Fresh Fruits and Vegetables (CCFFV) is responsible for elaborating worldwide standards and codes of practice, as may be appropriate, for fresh fruits and vegetables, consulting as necessary, with other international organizations in the standards development process to avoid duplication.

The Committee had the following items which were considered and approved by the CAC45 in November 2022:

Final Adoption at Step 5/8

• Standard for onions and shallots (CXS 348-2022)

• Standard for berry fruits (not yet published; document number not yet assigned) Interim adoption at Step 5

• Proposed draft standard for fresh dates

Approved as New Work

• New regional standard for Castilla lulo (approved to be undertaken as a regional standard by the Regional Coordinating Committee for Latin America and the Caribbean)

• New standard for fresh curry leaves

In addition, the Committee agreed to the following item for internal use by the Committee:

• Glossary of terms used in the layout for Codex standards for fresh fruits and vegetables

The date and location of the 23rd Session of the CCFFV (CCFFV23) have not yet been determined. The CCFFV23 agenda is currently unavailable.

The Committee is expected to continue work on:

• New work proposals

• Draft standard for fresh dates

• Draft standard for fresh curry leaves

Responsible Agencies: USDA/Agricultural Marketing Service (AMS), HHS/FDA/CFSAN.

U.S. Participation: Yes.

Codex Committee on General Principles

The Codex Committee on General Principles (CCGP) is responsible for procedural and general matters referred to it by the Codex Alimentarius Commission, including: (a) The review or endorsement of procedural provisions/texts forwarded by other subsidiary bodies for inclusion in the Procedural Manual of the Codex Alimentarius Commission; and (b) The consideration and recommendation of other amendments to the Procedural Manual.

The 33rd Session of the CCGP (CCGP33) is scheduled for October 2-6, 2023, in Bordeaux, France.

The Committee is expected to discuss:

• Revisions/amendments to Codex texts

• Format and structure of the Codex Procedural Manual

• Review and possible amendments to the rules of procedure on Sessions of the Commission

• Review and possible amendment of the Principles concerning the participation of international non-governmental organizations in the work of the Codex Alimentarius Commission

Responsible Agencies: USDA/TFAA/USCO

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex (commodity) committees, except for those methods of analysis and sampling for residues of pesticides or veterinary drugs in food, the assessment of microbiological quality and safety in food, and the assessment of specifications for food additives; elaborates sampling plans and procedures, as may be required; considers specific sampling and analysis problems submitted to it by the Commission or any committees; and defines procedures, protocols, guidelines or related texts for the assessment of food laboratory proficiency, as well as quality assurance systems for laboratories.

The CCMAS convened its 42nd Session (CCMAS42) from June 12-16, 2023, in Budapest, Hungary, with virtual report adoption on June 20, 2023. The relevant document is REP23/MAS. The Committee advanced the following items for consideration at the CAC46 in November 2023:

For Final Adoption at Step 8

• Revised Guideline on Measurement Uncertainty (CXG 54-2004)

For Revocation

• General Standard for Methods for Contaminants (CXS 228-2001)

The CCMAS is scheduled to convene its 43rd Session CCMAS43 from May 13-17, 2024, in Budapest, Hungary. The CCMAS43 agenda is currently unavailable.

The Committee is expected to continue work on:

• Amendments to certain provisions in Recommended Methods of Analysis and Sampling (CXS 234-1999)

• Review of methods for fish and fishery products and fruit juices

Responsible Agencies: HHS/FDA/CFSAN; USDA/AMS.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee had the following item which was considered and approved by the CAC45 in November 2022:

Final Adoption at Step 8

• Guidelines for Ready-to-Use Therapeutic Foods (RUTF)

The CCNFSDU convened its 43rd Session (CCNFSDU43) from March 7-10, 2023, in Dusseldorf, Germany, with virtual report adoption on March 15, 2023. The relevant document is REP23/NFSDU. CCNFSDU43 advanced the following items for consideration by the CAC46 in November 2023:

For Final Adoption at Step 8 and Step 5/8

• Revised Standard for Follow-up Formula (renamed as the Standard for Follow-up Formula for Older Infants and Product for Young Children) (CXS156-1987)

For Interim Adoption at Step 5

• General Principles for establishing Nutrient Reference Values (NRVs-R) for persons aged 6 to 36 months

The CCNFSDU is scheduled to convene its 44th Session (CCNFSDU44) from October 2-6, 2024. The CCNFSDU44 location and agenda are currently unavailable.

The Committee is expected to continue work on:

• General Principles for the Establishment of Nutrient Reference Values-Requirements (NRVs-R) for persons aged 6-36 months

• Collection and review of information on the use and use levels for five identified additives and their technological justification

• Redrafting of the prioritization mechanism/emerging issues for new work proposals

• Redrafting a revised Discussion Paper on harmonized probiotic guidelines

• Redrafting the Discussion Paper on Guidelines including General Principles for the Nutritional Composition of Foods and Beverages made from Plant-based and other Alternative Protein Sources

Responsible Agencies: HHS/FDA/CFSAN; USDA/ARS.

U.S. Participation: Yes.

Codex Committee on Pesticide Residues

The Codex Committee on Pesticide Residues (CCPR) is responsible for establishing maximum residue limits (MRLs) for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The Committee had the following items which were considered and approved by the CAC45 in November 2022:

Final Adoption at Step 8 and 5/8

• Over 300 Maximum Residue Limits (MRLs) for different combinations of pesticides/commodities

• Guidelines for the recognition of active substances or authorized uses of active substances of low public health concern that are considered exempted from the establishment of Codex maximum residue limits (MRLs) or do not give rise to residues

• Revision of Classification of Food and Feed (CXA 4-1989): definitions for edible offal, fat, meat, and muscle, including the definitions for the portion of the commodity to which MRLs apply and which is analyzed for fat and muscle; consequential amendment to Class D, Processed Food of Plant Origin; inclusion of additional commodities for citrus fruits pulps (dried) and oils (edible) and soya flour

The CAC45 also discontinued work, approved new work, and revoked existing MRLs as recommended by CCPR53, and noted the discontinuation of discussion of review of the international estimated short-term intake (IESTI) equations.

The CCPR convened its 54th Session (CCPR54) in Beijing, China from June 26-July 1, 2023. The relevant document is REP23/PR. CCPR54 advanced the following items for consideration by the CAC46 in November 2023:

For final adoption at Step 8 and 5/8

• Over 400 Maximum Residue Limits (MRLs) for different combinations of pesticides/commodities

• Revision of the Classification of Food and Feed (CXA 4-1989):

○ the revised Class B- Primary food commodities of animal origin and Class E -Processed Foods of Animal Origin (All Types) and their respective table of representative commodities;

○ the consequential amendment to Table 2, Subgroup 12C Eggplant and eggplant-like commodities to the Principles and Guidance on the Selection of Representative Commodities for the Extrapolation of MRLs for Pesticides to Commodity Groups (CXG 84-2012);

○ the consequential amendment to the revised definition for the portion of the commodity to which MRLs apply and which is analyzed for Group 006—Tropical Fruits of Inedible Peel and 023—Oil fruits; and

○ the consequential amendments to the inclusion of new commodities/commodity codes in Class A—Primary food commodities of plant origin and Class D—Processed commodities of plant origin

For Revocation

• The Guidelines on Portion of Commodities to which MRLs Apply and which is Analyzed (CXG 41-1993), noting that the Classification of Food and Animal Feeds (CXA 4-1989) should be the single, authoritative reference of food and feed for the establishment of MRLs for pesticides

For Approval as New Work

• Guidance for monitoring the purity and stability of reference materials of multi-class pesticides during prolonged storage

The CAC46 will also consider discontinuation of work and revocation of existing MRLs as recommended by CCPR54.

The CCPR is scheduled to convene its 55th Session (CCPR55) from June 3-8, 2024, in China. The CCPR55 agenda is currently unavailable.

The Committee is expected to continue work on:

• Coordination of work between CCPR and CCRVDF: Joint CCPR/CCRVDF Working Group on Compounds for Dual Use

• National registration of pesticides

• Management of unsupported compounds without public health concern scheduled for periodic review

• Establishment of Codex schedules and priority lists of pesticides for evaluation/re-evaluation by JMPR

• Enhancement of the operational procedures of CCPR and JMPR

Responsible Agencies: EPA/Office of Chemical Safety and Pollution Prevention (OCSPP)/Office of Pesticide Programs (OPP); USDA/FSIS.

U.S. Participation: Yes.

Codex Committee on Residues of Veterinary Drugs in Foods

The Codex Committee on Residues of Veterinary Drugs in Foods (CCRVDF) determines priorities for the consideration of residues of veterinary drugs in foods and recommends MRLs for veterinary drugs. The Committee also develops codes of practice, as may be required, and considers methods of sampling and analysis for the determination of veterinary drug residues in food.

The Committee had the following item which was considered and approved by the CAC45 in November 2022:

Interim Adoption at Step 5

• MRLs for zilpaterol hydrochloride (cattle kidney, liver, muscle)

The CCRVDF convened its 26th Session (CCRVDF26) from February 13-17, 2023, in Portland, Oregon. The relevant document is REP23/RVDF. CCRVDF26 advanced the following items for consideration at the CAC46 in November 2023:

For Final Adoption at Step 8 and 5/8

• 57 maximum residue limits (MRLs) for 13 veterinary drugs

For Approval

• Priority List of veterinary drugs requiring evaluation or re-evaluation by JECFA

The CCRVDF is scheduled to convene its 27th Session (CCRVDF27) from October 21-25, 2024. The CCRVDF27 location, and agenda are currently unavailable.

The Committee is expected to continue work on:

• Extrapolation of MRLs between species and to edible offal tissues

• Establishment of action levels for residues of veterinary drugs in edible tissues caused by unavoidable and unintended carryover of veterinary drug residues in animal feed

• Coordination between CCRVDF and CCPR on issues affecting both committees (e.g., harmonization of MRLs for similar edible commodities of animal origin; harmonization of risk assessment methodologies; data-sharing for dual-use compounds)

• Priority List of veterinary drugs requiring evaluation or re-evaluation by JECFA

Responsible Agencies: HHS/FDA/Center for Veterinary Medicine (CVM); USDA/FSIS.

U.S. Participation: Yes.

Codex Committee on Spices and Culinary Herbs

The Codex Committee on Spices and Culinary Herbs (CCSCH) is responsible for elaborating worldwide standards for spices and culinary herbs in their dried and dehydrated state in whole, ground, and cracked or crushed form. CCSCH also consults, as necessary, with other international organizations in the standards development process to avoid duplication.

The CCSCH convened its 6th Session (CCSCH6) virtually from September 26 to October 10, 2022. The relevant document is REP22/SCH. The Committee had the following items which were considered and approved by the CAC45 in November 2022:

Final Adoption at Step 8

• Standard for Dried Floral Parts—Saffron (not yet published)

• Standard for Dried Seeds—Nutmeg (CXS 352-202)

• Standard for Dried or Dehydrated Chili Pepper and Paprika (not yet published)

• Amendments to the labelling provisions for non-retail containers in the eight existing spices and culinary herb (SCH) standards, for consistency with the new General Standard for the Labelling of Non-Retail Containers of Foods (CXS 346-2021)

Interim Adoption at Step 5

• Proposed draft standard for dried small cardamom

• Proposed draft group standard for spices in the form of dried fruits and berries (allspice, juniper berry, star anise and vanilla)

The CCSCH is scheduled to convene its 7th Session (CCSCH7) from January 29-February 2, 2024, in India. The CCSCH7 agenda is currently unavailable.

The committee is expected to continue work on:

• Proposed draft standard for turmeric

• Proposed draft standard for spices in dried fruits and berries—vanilla

• Update to the SCH Grouping Template

Responsible Agencies: USDA/AMS; HHS/FDA/CFSAN.

U.S. Participation: Yes.

Adjourned Codex Commodity Committees

Several Codex Alimentarius Commodity Committees have adjourned sine die. The following Committees fall into this category:

Cereals, Pulses and Legumes—adjourned sine die 2020

Responsible Agency: HHS/FDA/CFSAN.

U.S. Participation: Yes.

Cocoa Products and Chocolate—adjourned sine die 2001

Responsible Agency: HHS/FDA/CFSAN.

U.S. Participation: Yes.

Meat Hygiene—adjourned sine die 2003

Responsible Agency: USDA/FSIS.

U.S. Participation: Yes.

Milk and Milk Products—adjourned sine die 2017

Responsible Agency: USDA/AMS; HHS/FDA/CFSAN.

U.S. Participation: Yes.

Natural Mineral Waters—adjourned sine die 2008

Responsible Agency: HHS/FDA/CFSAN.

U.S. Participation: Yes.

Processed Fruits and Vegetables—adjourned sine die 2020

Responsible Agency: USDA/AMS; HHS/FDA/CFSAN.

U.S. Participation: Yes.

Sugars—adjourned sine die 2019

Responsible Agency: HHS/FDA/CFSAN.

U.S. Participation: Yes.

Vegetable Proteins—adjourned sine die 1989

Responsible Agency: USDA/ARS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to them by the Commission; and promote the use of Codex standards and related texts by members.

There are six regional coordinating committees:

• Coordinating Committee for Africa

• Coordinating Committee for Asia

• Coordinating Committee for Europe

• Coordinating Committee for Latin America and the Caribbean

• Coordinating Committee for the Near East

• Coordinating Committee for North America and the South West Pacific

Coordinating Committee for Africa

The Coordinating Committee for Africa (CCAFRICA) convened its 24th Session (CCAFRICA24) virtually from September 5-9, 2022, with report adoption taking place on September 13, 2022.

The CCAFRICA had the following items which were considered and adopted by the CAC45 in November 2022:

Final Adoption at Step 8

• Regional standard for dried meat (not yet published)

Final Adoption at Step 5/8

• Guidelines for Developing Harmonized Food Safety Legislation for the CCAFRICA Region (CXG 98-2022)

The CCAFRICA plans to convene its 25th Session (CCAFRICA25) in approximately two years' time. The CCAFRICA25 date, location, and agenda are currently unavailable.

Responsible Party: USDA/TFAA/USCO.

U.S. Participation: Yes (as an observer).

Coordinating Committee for Asia

The Coordinating Committee for Asia (CCASIA) convened its 22nd Session (CCASIA22) virtually from October 12-18, 2022, with report adoption taking place on October 21, 2022.

The CCASIA advanced the following items for consideration at the CAC46 in November 2023:

For Final Adoption at Step 8 or Step 5/8

• Proposed draft regional standard for soybean products fermented with Bacillus species

• Proposed draft regional standard for cooked rice wrapped in plant leaves

• Proposed draft regional standard for quick frozen dumpling

• Amendment to the labelling provisions for non-retail containers in relevant CCASIA regional standards

The CCASIA plans to convene its 23rd Session (CCASIA23) in 2024. The CCASIA23 date, location, and agenda are currently unavailable.

Responsible Party: USDA/TFAA/USCO.

U.S. Participation: Yes (as an observer).

Coordinating Committee for Europe

The Coordinating Committee for Europe (CCEURO) did not meet during the time period covered by this notice and has not announced the date or location of its next session (CCEURO33). The CCEURO33 agenda is currently unavailable.

Responsible Party: USDA/TFAA/USCO.

U.S. Participation: Yes (as an observer).

Coordinating Committee for Latin America and the Caribbean

The Coordinating Committee for Latin America and the Caribbean (CCLAC) convened its 22nd Session (CCLAC22) virtually from October 24-28, 2022.

The CCLAC plans to convene its 23rd Session (CCLAC23) in approximately two years' time from CCLAC22. The CCLAC23 date, location, and agenda are currently unavailable.

Responsible Party: USDA/TFAA/USCO.

U.S. Participation: Yes (as an observer).

Coordinating Committee for North America and the South West Pacific

The Coordinating Committee for North America and the South West Pacific (CCNASWP) convened its 16th Session (CCNASWP16) in Nadi, Fiji, from January 30 to February 3, 2023.

The CCNASWP advanced the following item for consideration by the CAC46 in November 2023:

For Final Adoption at Step 8

• Draft regional standard for fermented noni fruit juice

The CCNASWP will convene its 17th Session in approximately two years' time from CCNASWP16. The CCNASWP17 date, location, and agenda are currently unavailable.

Responsible Party: USDA/TFAA/USCO.

U.S. Participation: Yes (as an observer).

Coordinating Committee for the Near East

The Coordinating Committee for the Near East (CCNE) did not meet in 2022. The CCNE plans to convene its 11th Session (CCNE11) at FAO headquarters in Rome, Italy, September 18-22, 2023. The agenda for CCNE 11 includes discussion of the following topics: alignment of regional standards, proposed draft regional standard for maamoul, Codex work relevant to the region, food safety and quality in the region including current and emerging issues—country updates, implementation of the Codex Strategic Plan 2020-2025, Discussion Paper on the development of a standard for halal products, and Nomination of the regional coordinator.

Responsible Party: USDA/TFAA/USCO.

U.S. Participation: Yes (as an observer).

Contact Information

U.S. Codex Office, United States Department of Agriculture, Room 4861, 1400 Independence Avenue SW, Washington, DC 20250-3700, Email: uscodex@usda.gov.

[FR Doc. 2023-17128 Filed 8-9-23; 8:45 am]

BILLING CODE P